DEPARTMENT OF EDUCATION

Applications for New Awards; Education Innovation and Research (EIR) Program Mid-Phase Grants

AGENCY: Office of Elementary and Secondary Education, Department of Education.

ACTION: Notice.

SUMMARY: The Department of Education (Department) is issuing a notice inviting applications for fiscal year (FY) 2025 for the EIR program Mid-phase Grants (Mid-phase Grants).

DATES:

Applications Available: September 12, 2025.

Deadline for Transmittal of Applications: October 14, 2025.

Deadline for Intergovernmental Review: December 11, 2025.

Pre-Application Information: The Department will post additional competition information for prospective applicants on the EIR program website: https://www.ed.gov/grants-and-programs/grants-special-populations/grants-economically-disadvantaged-students/education-innovation-and-research.

ADDRESSES: For the addresses for obtaining and submitting an application, please refer to our Common Instructions for Applicants to Department of Education Discretionary Grant Programs, published in the Federal Register on August 29, 2025 (90 FR 42234), and available at https://www.federalregister.gov/documents/2025/08/29/2025-16571/common-instructions-and-information-for-applicants-to-department-of-education-discretionary-grantams.

FOR FURTHER INFORMATION CONTACT: Dr. Sonji Jones-Manson, U.S. Department of Education, 400 Maryland Avenue SW, Washington, DC 20202-5900. Telephone: 202-987-1753. Email: eir@ed.gov.

If you are deaf, hard of hearing, or have a speech disability and wish to access telecommunications relay services, please dial 7-1-1.

SUPPLEMENTARY INFORMATION:

Full Text of Announcement

I. Funding Opportunity Description

Purpose of Program: The EIR program, established under section 4611 of the Elementary and Secondary Education Act of 1965, as amended (ESEA), provides funding to create, develop, implement, replicate, or take to scale entrepreneurial, evidence-based (as defined in this notice), field-initiated innovations to improve student achievement and attainment for high-need students; and to rigorously evaluate such innovations.

This notice invites applications for Mid-phase grants only. The notice inviting applications for Expansion grants within the EIR program is published elsewhere in this issue of the Federal Register. The Department does not intend to offer an Early-phase competition, yet may fund high-scoring, unfunded applicants from any of the FY 2024 EIR competitions.

Assistance Listing Number: 84.411B.

OMB Control Number: 1894-0006.

Background

The central design element of the EIR program is its multi-tier structure that links the amount of funding an applicant may receive to the quality of the evidence supporting the efficacy of the proposed project, through three distinct grant tiers: “Early-phase,” “Mid-phase,” and “Expansion.”

Mid-phase grants provide funding for the implementation and rigorous evaluation (as defined in this notice) of a program that has been successfully implemented under an Early-phase grant or other similar effort, such as developing and testing an innovative education practice at a local level, for the purpose of measuring the program's impact and cost-effectiveness.

Mid-phase grant projects refine and expand the use of practices with prior evidence of effectiveness to improve outcomes for high-need students. They implement and rigorously evaluate an intervention's impact and effectiveness, including cost considerations such as economies of scale. Mid-phase grant projects are uniquely positioned to help answer questions about the process of scaling a practice across geographies as well as locale types.

Mid-phase grants measure the cost-effectiveness of their practices using administrative or other readily available data. These types of efforts are critical to sustaining and scaling EIR-funded effective practices after the EIR grant period ends, assuming that the practice has positive effects on important student outcomes.

The FY 2025 Mid-phase competition prioritizes projects that tackle persistent challenges in education through the absolute priority on Promoting Evidence-Based Literacy, aligned with national efforts to improve literacy achievement nationwide. Projects that directly benefit all students, but especially high-need students, through effective literacy instruction, aligned to the science of reading, are strongly encouraged. By focusing on literacy—the foundation of all learning, the Department aims to support scalable solutions that address one of the most urgent academic needs facing schools today.

All EIR applicants and grantees should also indicate how they will develop their organizational capacity, project financing, and business plans to sustain their projects and continue implementation and adaptation after Federal funding ends.

Further advancing the Department's commitment to restoring excellence and expanding state leadership, applicants may also respond to two competitive preference priorities.

Competitive Preference Priority 1: Returning Education to the States encourages projects that elevate State- and Tribal-led efforts to take the lead in serving the students, families, and educators within their communities.

In addition, Competitive Preference Priority 2: Education Choice (High-Impact Tutoring) supports projects such as those proposing individualized or small-group tutoring programs through innovative delivery models, a proven approach in demonstrating results in helping students accelerate academic progress.¹

¹ Robinson, C.D., & Loeb, S. (2021, May). High-Impact Tutoring: State of the Research and Priorities for Future Learning. https://nssa.stanford.edu/sites/default/files/Accelerator_Research_Agenda.pdf.

Collectively, these priorities reflect the Department's vision of empowering States to lead, investing in evidence-based strategies, and ensuring that all students have access to high-quality instruction and support. Mid-phase grants represent a critical opportunity to scale effective strategies and measure impact through proven, locally driven innovation.

Priorities: This notice includes one absolute priority and two competitive preference priorities. In accordance with 34 CFR 75.105(b)(2)(ii), the absolute priority is from section 4611(a)(1)(A) of the ESEA and the Supplemental Priorities and Definitions for Discretionary Grants Programs, published in the Federal Register on September 9, 2025 (90 FR 43514) (Supplemental Priorities), and the competitive preference priorities are from the Supplemental Priorities.

Absolute Priority: For FY 2025 and any subsequent year in which we make awards from the list of unfunded applications from this competition, this priority is an absolute priority. Under 34 CFR 75.105(c)(3), we consider only applications that meet this priority.

This priority is:

Field-Initiated Innovations: Promoting Evidence-Based Literacy.

Projects or proposals to—

(a) Create, develop, implement, replicate, or take to scale entrepreneurial, evidence-based, field-initiated innovations to improve student achievement and attainment for high-need students; and

(b) Advance, increase, or expand evidence-based literacy instruction (as defined in this notice).

Competitive Preference Priorities: For FY 2025 and any subsequent year in which we make awards from the list of unfunded applications from this competition, these priorities are competitive preference priorities. Under 34 CFR 75.105(c)(2)(i), we award up to an additional 10 points to an application, depending on how well the application addresses Competitive Preference Priority 1, and up to an additional 5 points to an application, depending on how well the application addresses Competitive Preference Priority 2.

These priorities are:

Competitive Preference Priority 1: Returning Education to the States (up to 10 points).

Projects or proposals that will be carried out by one or more of the following entities:

(a) State educational agencies (as defined in 20 U.S.C. 7801(49)),

(b) An Indian Tribe (as defined in 25 U.S.C. 5304(e)), Tribal organization (as defined in 25 U.S.C. 5304(l)), or Tribal educational agency (as defined in 20 U.S.C. 7452(b)(3)), or

(c) Consortia of the entities identified under this priority.

Competitive Preference Priority 2: Expanding Education Choice (High-Impact Tutoring) (up to 5 points).

Projects or proposals that will expand access to education services that accelerate learning such as high-impact tutoring.

Note: Applicants are encouraged to review the evidence related to education services that accelerate learning, including high-impact tutoring, and to cite the highest-level of evidence supporting their response to the competitive preference priority in their application.

Definitions: The following definitions apply to this program. The definitions of “baseline,” “continuous improvement,” “evaluation,” “evidence-building,” “independent evaluation,” “logic model,” “nonprofit,” “performance measure,” “performance target,” “project component,” “quality data,” “relevant outcome,” and “What Works Clearinghouse Handbooks (WWC Handbooks)” are from 34 CFR 77.1. The definitions of “evidence-based,” “local educational agency,” and “State educational agency” are from section 8101 of the ESEA. The definitions of “evidenced-based literacy instruction,” “evidence framework,” “experimental study,” and “quasi-experimental design study” are from the Supplemental Priorities.

Baseline means the starting point from which performance is measured and targets are set.

Continuous improvement means using plans for collecting and analyzing data about a project component's implementation and outcomes (including the pace and extent to which project outcomes are being met) to inform necessary changes throughout the project. These plans may include strategies to gather ongoing feedback from participants and stakeholders on the implementation of the project component.

Evaluation means an assessment using systematic data collection and analysis of one or more programs, policies, practices, and organizations intended to assess their implementation, outcomes, effectiveness, or efficiency.

Evidence-building means a systematic plan for identifying and answering questions relevant to programs and policies through performance measurement, exploratory studies, or program evaluation.

Evidence-based means an activity, strategy, or intervention that demonstrates a statistically significant effect on improving student outcomes or other relevant outcomes based on—

(i) Strong evidence from at least 1 well-designed and well-implemented experimental study; or

(ii) Moderate evidence from at least 1 well-designed

and well-implemented quasi-experimental study.

Evidence-based literacy instruction means literacy instruction that relates to explicit, systematic and intentional instruction in phonological awareness, phonic decoding, oral and sign language, vocabulary, language structure, reading fluency, reading comprehension, and writing; promotes knowledge-rich materials; and is backed by one or more of the following, as supported by an evidence framework (as defined in this notice):

(a) strong evidence, meaning an activity, strategy, or intervention that demonstrates a statistically significant effect on improving student outcomes or other relevant outcomes based on at least one well-designed and well-implemented experimental study (strong evidence as defined in 20 U.S.C. 7801(21)(A)(i)(I)) or

(b) moderate evidence, meaning an activity, strategy, or intervention that demonstrates a statistically significant effect on improving student outcomes or other relevant outcomes based on at least one well-designed and well-implemented quasi-experimental study (moderate evidence as defined in 20 U.S.C. 7801(21)(A)(i)(II)).

Evidence framework means an approach to providing a determination about whether an activity, strategy, or intervention meets each aspect of the definition of strong evidence or moderate evidence (as defined in 20 U.S.C. 7801(21)(A)(i)(I-II)), as applicable.

(a) An evidence framework must include each of the following:

(i) Whether or not a study is an experimental study or quasi-experimental experimental design study;

(ii) Whether or not a study shows a positive, statistically significant effect on student outcomes or other relevant outcomes;

(iii) Whether or not a study uses outcome measures that demonstrate validity and reliability, that do not give an unfair advantage to participants in one condition over another, and that are measured consistently for the groups or participants that are being compared;

(iv) Whether or not a study design is otherwise of high quality, including whether it minimizes factors outside the intervention that could affect student or other relevant outcomes (confounds) and whether random assignment (if used) was done with integrity; and

(v) Whether or not study implementation and analysis is appropriate, including whether groups or participants being compared demonstrate baseline equivalence on key individual and other relevant characteristics, whether differences in baseline equivalence are statistically controlled, and by considering the impact on the validity of the study of any changes to the sample over time.

(b) An evidence framework may be implemented or verified by the Department or peer reviewers with statistical expertise who affirm an applicant's assertion that relevant information is strong evidence or moderate evidence because it is supported by study ratings included in the What Works Clearinghouse in one or more of:

(i) a practice guide;

(ii) an intervention report; or

(iii) individual studies otherwise assessed to meet strong evidence or moderate evidence.

Experimental study means a study that is designed to compare outcomes between two groups (such as students) that are otherwise equivalent except for their assignment to a treatment group receiving an activity, strategy, intervention, process, product, practice, or policy as compared with a control group that does not. Experimental studies can support claims of strong evidence. Randomized controlled trials and single-case design studies are specific types of experimental studies that meet this definition.

Independent evaluation means an evaluation of a project component that is designed and carried out independently of, but in coordination with, the entities that develop or implement the project component.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA (as defined in this notice) other than the Bureau of Indian Education.

(d) Educational Service Agencies. The term includes educational service agencies and consortia of those agencies.

(e) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for students who qualify for Title I services and follow-on coaching for these teachers).

Quality data encompasses utility, objectivity, and integrity of the information. “Utility” refers to how the data will be used, either for its intended use or other uses. “Objectivity” refers to data being accurate, complete, reliable, and unbiased. “Integrity” refers to the protection of data from being manipulated.

Quasi-experimental design study means a study using a design that attempts to approximate an experimental study by identifying a comparison group that is similar to the treatment group in important respects. Cross-sectional group designs, comparative interrupted time series, difference-in-difference designs, and growth curve designs are specific types of quasi-experimental studies that meet this definition. This type of study can meet the definition of moderate evidence but not strong evidence.

Relevant outcome means the student outcome(s) or other outcome(s) the key project component is designed to improve, consistent with the specific goals of the program.

State educational agency (SEA) means the agency primarily responsible for the State supervision of public elementary schools and secondary schools.

What Works Clearinghouse Handbooks (WWC Handbooks) means the standards and procedures set forth in the WWC Procedures and Standards Handbook, Version 5.0, or in the WWC Standards Handbook, Version 4.0 or 4.1, or in the WWC Procedures Handbook, Version 4.0 or 4.1, the WWC Procedures and Standards Handbook, Version 3.0 or Version 2.1 (all incorporated by reference; see § 77.2). Study findings eligible for review under WWC standards can meet WWC standards without reservations, meet WWC standards with reservations, or not meet WWC standards. WWC practice guides and intervention reports include findings from systematic reviews of evidence as described in the WWC Handbooks documentation.

Program Authority: 20 U.S.C. 7261.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) Guidance for Federal Financial Assistance in 2 CFR part 200, as adopted and amended as regulations of the Department in 2 CFR part 3474.

Note: The regulations in 34 CFR part 86 apply to institutions of higher education (IHEs) only.

II. Award Information

Type of Award: Discretionary grants.

Estimated Available Funds: $253,000,000.

These estimated funds are the total available for new awards for both the Mid-phase and Expansion competitions and any funding of high-scoring, unfunded applicants from any of the FY 2024 EIR competitions. Contingent upon the availability of funds and the quality of applications, we may make additional awards in subsequent years from the list of unfunded applications.

Estimated Average Size of Awards: Up to $10,000,000.

Maximum Award: We will not make an award exceeding $10,000,000 for a project period of 60 months. Under 34 CFR 75.104(b) the Secretary may reject, without consideration or evaluation, any application that proposes a project funding level that exceeds the stated maximum award amount. The Department intends to fund one or more projects under each of the EIR competitions, including Expansion grants (84.411A) and Mid-phase grants (84.411B). Entities may submit applications for different projects for more than one competition (Mid-phase grants and Expansion grants).

Estimated Number of Awards: 8-15.

Note: The Department is not bound by any estimates in this notice.

Project Period: Up to 60 months.

Note: Under section 4611(c) of the ESEA, the Department must use at least 25 percent of EIR funds for a fiscal year to make awards to applicants serving rural areas, contingent on receipt of a sufficient number of applications of sufficient quality. For purposes of this competition, we will consider an applicant as rural if the applicant meets the qualifications for rural applicants as described in the Eligible Applicants section and the applicant certifies that it meets those qualifications through the application. In implementing this statutory provision and program requirement, the Department may fund high-quality applications from rural applicants out of rank order in the Mid-phase grants competition.

III. Eligibility Information

1. Eligible Applicants:

(a) An LEA;

(b) An SEA;

(c) The Bureau of Indian Education (BIE);

(d) A consortium of SEAs or LEAs;

(e) A nonprofit organization; and

(f) An LEA, an SEA, the BIE, or a consortium described in clause (d), in partnership with—

(1) A nonprofit (as defined in this notice) organization;

(2) A business;

(3) An educational service agency; or

(4) An IHE.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with an SEA; and

(b) A majority of the schools to be served by the program are designated with a locale code of 32, 33, 41, 42, or 43, or a combination of such codes, as determined by the Secretary.

Note: An applicant that is a nonprofit organization may, under 34 CFR 75.51, demonstrate its nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

In addition, with respect to IHEs and their affiliates, the following entities may apply for a grant under this competition: (1) As noted above, any IHE that is a partner in an application submitted by an LEA, SEA, BIE, consortium of SEAs or LEAs, or a nonprofit organization; (2) A private IHE that is a nonprofit organization; (3) A nonprofit organization, such as a development foundation, that is affiliated with a public IHE; and (4) A public IHE with 501(c)(3) status. A public IHE without 501(c)(3) status (even if that entity is tax exempt under Section 115 of the Internal Revenue Code or any other State or Federal provision), or that could not provide any other documentation of nonprofit status described above, however, would not qualify as a nonprofit organization, and therefore would not be eligible to apply for and receive an EIR grant.

2. a. Cost Sharing or Matching: Under section 4611(d) of the ESEA, each grant recipient must provide, from Federal, State, local, or private sources, an amount equal to 10 percent of funds provided under the grant, which may be provided in cash or through in-kind contributions, to carry out activities supported by the grant. Applicants must include a budget showing their matching contributions to the budget amount of EIR grant funds and must provide evidence of their matching contributions for the first year of the grant in their grant applications.

Section 4611(d) of the ESEA authorizes the Secretary to waive the matching requirement on a case-by-case basis, upon a showing of exceptional circumstances, such as:

(i) The difficulty of raising matching funds for a program to serve a rural area;

(ii) The difficulty of raising matching funds in areas with a concentration of LEAs or schools with a high percentage of students aged 5 through 17—

(A) Who are in poverty, as counted in the most recent census data approved by the Secretary;

(B) Who are eligible for a free or reduced-price lunch under the Richard B. Russell National School Lunch Act (42 U.S.C. 1751 et seq.);

(C) Whose families receive assistance under the State program funded under part A of title IV of the Social Security Act (42 U.S.C. 601 et seq.); or

(D) Who are eligible to receive medical assistance under the Medicaid program; and

(iii) The difficulty of raising funds on Tribal land.

An applicant that wishes to apply for a waiver must include a request in its application, describing the exceptional circumstances that make it difficult for the applicant to meet the matching requirement. Further information about applying for waivers can be found in the application package for this competition.

b. Indirect Cost Rate Information: This program uses an unrestricted indirect cost rate. For more information regarding indirect costs, or to obtain a negotiated indirect cost rate, please see http://www.ed.gov/about/ed-offices/ofo#Indirect-Cost-Division.

c. Administrative Cost Limitation: This program does not include any program-specific limitation on administrative expenses. All administrative expenses must be reasonable and necessary and conform to Cost Principles described in 2 CFR part 200 subpart E of the Guidance for Federal Financial Assistance.

3. Subgrantees: A grantee under this competition may not award subgrants to entities to directly carry out project activities described in its application.

4. Other: a. Evaluation: A grantee funded under this competition must conduct an independent evaluation (as defined in 34 CFR 77.1(c)). (see 34 CFR 75.590).

b. Independent Evaluation Report: A grantee funded under this competition must make public the final report, including results of any required independent evaluation and submit the final evaluation to the Education Resources Information Center (ERIC), which is administered by the Institute of Education Sciences. (see 34 CFR 75.590)

c. High-need students: The grantee must serve high-need students.

IV. Application and Submission Information

1. Application Submission Instructions: Applicants are required to follow the Common Instructions for Applicants to Department of Education Discretionary Grant Programs, published in the Federal Register on August 29, 2025 (90 FR 42234), and available at https://www.federalregister.gov/documents/2025/08/29/2025-16571/common-instructions-and-information-for-applicants-to-department-of-education-discretionary-grant, which contain requirements and information on how to submit an application.

2. Intergovernmental Review: This competition is subject to Executive Order 12372 and the regulations in 34 CFR part 79.

3. Funding Restrictions: We reference regulations outlining funding restrictions in the Applicable Regulations section of this notice.

4. Recommended Page Limit: The application narrative is where you, the applicant, will address the selection criteria that reviewers use to evaluate your application. We recommend that you (1) limit the application narrative for a Mid-phase grant to no more than 30 pages and (3) use the standards outlined in the Common Instructions.

V. Application Review Information

1. Selection Criteria: The selection criteria for the Mid-phase grants competition are from 34 CFR 75.210. The points assigned to each criterion are indicated in the parentheses next to the criterion.

A. Significance (up to 15 points).

The Secretary considers the significance of the proposed project. In determining the significance of the proposed project, the Secretary considers the extent to which the proposed project introduces an innovative approach, such as a modification of an evidence-based project component to serve different populations, an extension of an existing evidence-based project component, a unique composition of various project components to explore combined effects, or development of an emerging project component that needs further testing.

B. Strategy to Scale (up to 35 points).

The Secretary considers the applicant's strategy to effectively scale the proposed project for recipients, community members and partners. In determining the applicant's strategy to effectively scale the proposed project, the Secretary considers the following factors:

(1) The extent to which there is unmet demand for broader implementation of the project that is aligned with the proposed level of scale. (up to 10 points)

(2) The feasibility of the management plan to achieve project objectives and goals on time and within budget, including clearly defined responsibilities, timelines, and milestones for accomplishing project tasks. (up to 10 points)

(3) The relevance and demonstrated commitment of each partner in the proposed project to the implementation and success of the project. (up to 5 points)

(4) The quality of the plan to deliver project services more efficiently at scale and maintain effectiveness. (up to 5 points)

(5) The quality of the mechanisms the applicant will use to broadly disseminate information and resources on its project to support further development, adaptation, or replication by other entities to implement project components in additional settings or with other populations. (up to 5 points)

C. Quality of the Project Design (up to 20 points).

The Secretary considers the quality of the design of the proposed project. In determining the quality of the design of the proposed project, the Secretary considers the following factors:

(1) The quality of the logic model or other conceptual framework underlying the proposed project, including how inputs are related to outcomes. (up to 15 points)

(2) The extent to which the goals, objectives, and outcomes to be achieved by the proposed project are clearly specified, measurable, and ambitious yet achievable within the project period, and aligned with the purposes of the grant program. (up to 5 points)

D. Quality of the Project Evaluation or Other Evidence-Building (up to 30 points).

The Secretary considers the quality of the evaluation or other evidence-building of the proposed project. In determining the quality of the evaluation or other evidence-building, the Secretary considers the following factors:

(1) The extent to which the methods of evaluation will, if well implemented, produce evidence about the effectiveness of the project on relevant outcomes that would meet the What Works Clearinghouse standards without reservations, as described in the What Works Clearinghouse Handbooks. (up to 15 points)

(2) The extent to which the evaluation will provide guidance about effective strategies suitable for replication or testing and potential implementation in other settings. (up to 5 points)

(3) The quality of the evaluation plan for measuring fidelity of implementation, including thresholds for acceptable implementation, to inform how implementation is associated with outcomes. (up to 5 points)

(4) The extent to which the design for implementing and evaluating the proposed project will result in information to guide possible replication of project activities or strategies, including valid and reliable information about the effectiveness of the approach or strategies employed by the project. (up to 5 points)

Note: Applicants may wish to review the following technical assistance resources on evaluation: (1) WWC Procedures and Standards Handbooks: https://ies.ed.gov/ncee/wwc/Handbooks; (2) “Technical Assistance Materials for Conducting Rigorous Impact Evaluations”: http://ies.ed.gov/ncee/projects/evaluationTA.asp; and (3) Institute of Education Sciences/National Center for Education Evaluation and Regional Assistance Technical Methods papers: http://ies.ed.gov/ncee/tech_methods/. In addition, applicants may view an optional webinar recording that was hosted by the Institute of Education Sciences. The webinar focused on more rigorous evaluation designs, discussing strategies for designing and executing experimental studies that meet WWC evidence standards without reservations. This webinar is available at: https://ies.ed.gov/ncee/wwc/Multimedia/18.

2. Review and Selection Process: We remind potential applicants that in reviewing applications in any discretionary grant competition, the Secretary may consider, under 34 CFR 75.217, information outside the rank order of applications, including: the information in each application; and any other information—

(1) Relevant to a criterion, priority, or other requirement that applies to the selection of applications for new grants;

(2) Concerning the applicant's performance and use of funds under a previous award under any Department program; and

(3) Concerning the applicant's failure under any Department program to submit a performance report or its submission of a performance report of unacceptable quality.

Before making awards, Department staff will screen applications submitted in accordance with the requirements in this notice to determine whether applications have met eligibility and other requirements, including whether an application may fail to meet the “General Terms and Conditions” applicable to awarded funds referenced elsewhere within this notice. This screening process may occur at various stages of the review and selection process. Applicants that are determined to be ineligible will not receive a grant, regardless of the whether the application was included in the peer review process. Applications not selected for funding will be informed of the Secretary's decision in accordance with 34 CFR 75.218.

Peer reviewers will read, prepare a written evaluation of, and score the assigned applications, using the selection criteria provided in this notice.

3. In General: In accordance with the Office of Management and Budget's guidance located at 2 CFR part 200, all applicable Federal laws and regulations, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part pursuant to the terms and conditions of the Federal award, including, to the extent authorized by law, if an award no longer effectuates the program goals and agency priorities (2 CFR 200.340).

VI. Award Administration Information

1. General terms and conditions: If you are awarded a grant under this competition, you must ensure and may be required to demonstrate that federal funds will not be used under this project in any manner that violates the United States Constitution, Title VI or Title VII of the Civil Rights Act of 1964 (42 U.S.C. 2000d et seq. or 42 U.S.C. 2000e et seq.), Title IX of the Education Amendments of 1972 (20 U.S.C. 1681 et seq.), section 504 of the Rehabilitation Act (29 U.S.C. 794), the Age Discrimination Act of 1975 (42 U.S.C. 6101 et seq.), Title II of the Americans with Disabilities Act of 1990 (42 U.S.C. 12131 et seq.), the Boy Scouts of America Equal Access Act of 2001 (20 U.S.C. 7905), section 117 of the Higher Education Act of 1965, as amended (20 U.S.C. 1011f), or other applicable federal law. To the extent that a grantee uses grant funds for such unallowable activities, the Department may take appropriate enforcement action including under section 451 of the General Education Provisions Act (GEPA), including the potential recovery of funds under section 452 of GEPA, or may pursue termination under 2 CFR 200.340. The Grant Award Notification document accompanying your award may contain further terms and conditions, as necessary to ensure grantee compliance with applicable laws, regulations, and administrative priorities.

2. Open Licensing Requirements: Unless an exception applies, if you are awarded a grant under this competition, you will be required to openly license to the public grant deliverables created in whole, or in part, with Department grant funds. See the Common Instructions for additional information.

3. Performance Measures: For the purpose of Department reporting under 34 CFR 75.110, the Department has established a set of performance measures (as defined in this notice) for the Mid-phase grants.

Annual performance measures: (1) The percentage of grantees that reach their annual target number of students as specified in the application; (2) the percentage of grantees that reach their annual target number of high-need students as specified in the application; (3) the percentage of grantees with ongoing well-designed and independent evaluations that will provide evidence of their effectiveness at improving student outcomes in multiple contexts; (4) the percentage of grantees that implement an evaluation that provides information about the key practices and the approach of the project so as to facilitate replication; (5) the percentage of grantees that implement an evaluation that provides information on the cost-effectiveness of the key practices to identify potential obstacles and success factors to scaling; and (6) the cost per student served by the grant.

Cumulative performance measures: (1) The percentage of grantees that reach the targeted number of students specified in the application; (2) the percentage of grantees that reach the targeted number of high-need students specified in the application; (3) the percentage of grantees that complete a well-designed, well-implemented, and independent evaluation that provides evidence of their effectiveness at improving student outcomes at scale; (4) the percentage of grantees that complete a well-designed, well-implemented, and independent evaluation that provides information about the key elements and the approach of the project so as to facilitate replication or testing in other settings; (5) the percentage of grantees with a completed evaluation that provides information on the cost-effectiveness of the key practices to identify potential obstacles and success factors to scaling; and (6) the cost per student served by the grant.

Data collection and reporting: (1) The data collection and reporting methods the applicant would use and why those methods are likely to yield reliable, valid, and meaningful performance data; and (2) the applicant's capacity to collect and report the quality of the performance data, as evidenced by quality data collection, analysis, and reporting in other projects or research.

Project-Specific Performance Measures: Applicants must propose project-specific performance measures and performance targets (both as defined in this notice) consistent with the objectives of the proposed project. Applications must provide the following information as directed under 34 CFR 75.110(b) and (c):

(1) Project-specific performance measures. How each proposed project-specific performance measure would: accurately measure the performance of the project; be consistent with the program performance measures established under this notice; and be used to inform continuous improvement of the project.

(2) Baseline (as defined in this notice) data. (i) Why each proposed baseline is valid and reliable, including an assessment of the quality data used to establish the baseline; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

All grantees must submit an annual performance report with information that is responsive to these performance measures.

Hayley B. Sanon,
Principal Deputy Assistant Secretary and Acting Assistant Secretary, Office of Elementary and Secondary Education.

[FR Doc. 2025-17670 Filed 9-11-25; 8:45 am]

BILLING CODE 4000-01-P